DEPARTMENT OF DEFENSE

Office of the Secretary

Meeting of the Military Leadership Diversity Commission (MLDC)

AGENCY: Office of the Under Secretary of Defense for Personnel and Readiness, DoD.

ACTION: Meeting notice.

SUMMARY: Under the provisions of the Federal Advisory Committee Act of 1972 (5 U.S.C., Appendix, as amended), the Government in the Sunshine Act of 1976 (5 U.S.C. 552b, as amended), and 41 CFR 102-3.150, the Department of Defense announces that the Military Leadership Diversity Commission (MLDC) will meet on October 21 and 22, 2009, in Arlington, VA. Subject to and the availability of space, the meeting will be open to the public.

DATES: The MLDC will meet from 9 a.m. to 6 p.m. on Wednesday, October 21 and Thursday, October 22, 2009.

ADDRESSES: The meeting will be held at the Double Tree Hotel, 300 Army Navy Drive, Arlington, VA 22202.

FOR FURTHER INFORMATION CONTACT: Master Chief Steven A. Hady, Designated Federal Officer, MLDC, at (703) 602-0838, 1851 South Bell Street, Suite 532, Arlington, VA. E-mail Steven.Hady@wso.whs.mil.

Committee's Designated Federal Officer or Point of Contact: Master Chief Steven A. Hady, Designated Federal Officer, MLDC, at (703) 602-0838 or (703) 347-5295, 1851 South Bell Street, Suite 532, Arlington, VA. E-mail Steven.Hady@wso.whs.mil.

SUPPLEMENTARY INFORMATION: The purpose of the meeting is for the MLDC commissioners to discuss the congressional requirements of the Commission, and to map the Commission's efforts to address these congressional concerns.

Agenda

Wednesday, October 21, 2009

9 a.m. -1 p.m.

Designated Federal Officer (DFO) opens the meeting;

Commission Chairman opening remarks;

Service Chiefs discussion regarding their visions of diversity (Invited);

General Counsel Offices of OSD and Services Briefings.

1 p.m.

DFO adjourns the meeting.

2 p.m.-6 p.m.

DFO opens the meeting ;

Chairman briefs to Commissioners (objectives and approach) followed by:

Open discussion on objectives and approach;

Discussion on outlines of white papers and the interim report;

Discussion on elements of uniform DoD definition of diversity.

6 p.m.

Commission Chairman Closing Remarks;

DFO adjourns the meeting.

Thursday, October 22, 2009

9 a.m.-12 p.m.

DFO opens the meeting;

Commission Chairman opening remarks;

Enlisted and officer accessions briefings from the responsible military organizations.

12 p.m.

DFO adjourns the meeting.

1 p.m-6 p.m.

DFO opens the meeting;

Service Academies briefing;

Outreach programs briefings;

Discussion on recruiting and outreach programs from the responsible military organizations.

6 p.m.

Commission Chairman Closing Remarks;

DFO adjourns the meeting.

Public's Accessibility to the Meeting:

Pursuant to 5 U.S.C. 552b and 41 CFR 102-3.140 through 102-3.165, and the availability of space, the October 21 and 22 meetings will be open to the public. Please note that the availability of seating is on a first-come basis.

Written Statements:

Pursuant to 41 CFR 102-3.105(j) and 102-3.140, and section 10(a)(3) of the Federal Advisory Committee Act of 1972, the public or interested organizations may submit written statements to the Commission about its mission and functions. Written statements may be submitted at any time or in response to the stated agenda of a planned meeting of the MLDC.

All written statements shall be submitted to the Designated Federal Officer for the Commission, and this individual will ensure that the written statements are provided to the membership for their consideration. Contact information for the Designated Federal Officer can be obtained from the FOR FURTHER INFORMATION CONTACT section of this notice or from GSA's FACA Database— https://www.fido.gov/facadatabase/public.asp.

Statements being submitted in response to the agenda mentioned in this notice must be received by the Designated Federal Officer at least five calendar days prior to the meeting which is the subject of this notice. Written statements received after this date may not be provided to or considered by the Commission until its next meeting.

The Designated Federal Officer will review all timely submissions with the MLDC Chairperson and ensure they are provided to all members of the Commission before the meeting that is the subject of this notice.

Dated: September 25, 2009.
Patricia L. Toppings,
OSD Federal Register Liaison Officer, Department of Defense.

[FR Doc. E9-23742 Filed 9-30-09; 8:45 am]

BILLING CODE 5001-06-P